DEPARTMENT OF HEALTH AND HUMAN SERVICES

National Institutes of Health

National Institute of Mental Health; Notice of Closed Meetings

Pursuant to section 10(d) of the Federal Advisory Committee Act, as amended (5 U.S.C. appendix 2), notice is hereby given of the following meetings.

The meetings will be closed to the public in accordance with the provisions set forth in sections 552b(c)(4), and 552b(c)(6), title 5 U.S.C., as amended. The grant applications and the discussions could disclose confidential trade secrets or commercial property such as patentable material, and personal information concerning individuals associated with the grant applications, the disclosure of which would constitute a clearly unwarranted invasion of personal privacy.

Name of Committee: National Institute of Mental Health Special Emphasis Panel Child Interventions Panel.

Date: February 8-9, 2005.

Time: 9 a.m. to 5 p.m.

Agenda: To review and evaluate grant applications.

Place: Hilton Alexandria Marks Center, 5000 Seminary Road, Alexandria, VA 22311.

Contact Person: Christopher S. Sarampote, PhD, Scientific Review Administrator, Division of Extramural Activities, National Institutes of Mental Health, NIH, Neuroscience Center, 6001 Executive Blvd., Room 6148, MSC 9608, Bethesda, MD 20892-9608, (301) 443-1959, csarampo@mail.nih.gov.

Name of Committee: National Institute of Mental Health Special Emphasis Panel ITV Related Conflicts.

Date: February 8, 2005.

Time: 4:40 p.m. to 5 p.m.

Agenda: To review and evaluate grant applications.

Place: Hyatt Regency Bethesda, One Bethesda Metro Center, 7400 Wisconsin Avenue, Bethesda, MD 20814.

Contact Person: David I. Sommers, PhD, Scientific Review Administrator, Division of Extramural Activities, National Institutes of Mental Health, NIH, Neuroscience Center, 6001 Executive Blvd., Room 6144, MSC 9608, Bethesda, MD 20892-9608, (301) 443-7861, dsommers@mail.nih.gov.

Name of Committee: National Institute of Mental Health Special Emphasis Panel National Cooperative Drug Discovery Groups for the Treatment of Mood Disorders or Nicotine Addiction (NCDDG-MD/NA) II.

Date: February 11, 2005.

Time: 12 p.m. to 2:30 p.m.

Agenda: To review and evaluate grant applications.

Place: National Institutes of Health, Neuroscience Center, 6001 Executive Boulevard, Rockville, MD 20852 (Telephone Conference Call).

Contact Person: Peter J. Sheridan, PhD, Scientific Review Administrator, Division of Extramural Activities, National Institutes of Mental Health, NIH, Neuroscience Center, 6001 Executive Blvd., Room 6142, MSC 9606, Bethesda, MD 20892-9606, (301) 443-1513, psherida@mail.nih.gov.

Name of Committee: National Institute of Mental Health Special Emphasis Panel National Cooperative Drug Discovery Groups for the Treatment of Mood Disorders or Nicotine Addiction (NCDDG-MD/NA) I.

Date: February 18, 2005.

Time: 12 p.m. to 2:30 p.m.

Agenda: To review and evaluate grant applications.

Place: National Institutes of Health, Neuroscience Center, 6001 Executive Boulevard, Rockville, MD 20852 (Telephone Conference Call).

Contact Person: Peter J. Sheridan, PhD, Scientific Review Administrator, Division of Extramural Activities, National Institute of Mental Health, NIH, Neuroscience Center, 6001 Executive Blvd., Room 6142, MSC 9606, Bethesda, MD 20892-9606, 301-443-1513, psherida@nih.gov.

Name of Committee: National Institute of Mental Health Special Emphasis Panel Interventions and Services Centers—Adult.

Date: February 24-25, 2005.

Time: 8:30 a.m. to 5 p.m.

Agenda: To review and evaluate grant applications.

Place: Radisson Plaza Lord Baltimore Hotel, 20 West Baltimore Hotel, Baltimore, MD 21201.

Contact Person: Mary E. Farmer, MD, MPH, Scientific Review Administrator, Neuroscience Center, 6001 Executive Boulevard, Room 7191, Bethesda, MD 20892-9643, 301-443-9869, mfarmer@nih.gov.

Name of Committee: National Institute of Mental Health Special Emphasis Panel Conte Centers for Depression and Circadian Rhythm.

Date: February 24-25, 2005.

Time: 9 a.m. to 5 p.m.

Agenda: To review and evaluate grant applications.

Place: Summerfield Suites Hotel, 200 Skidmore Blvd., Gaithersburg, MD 20877.

Contact Person: A. Roger Little, PhD, Scientific Review Administrator, Division of Extramural Activities, National Institute of Mental Health, NIH, Neuroscience Center, 6001 Executive Blvd., Room 6157, MSC 9608, Bethesda, MD 20892-9608, 301-402-5844, alittle@mail.nih.gov.

Name of Committee: National Institute of Mental Health Special Emphasis Panel Lithium and Suicide Study.

Date: March 1, 2005.

Time: 11:30 a.m. to 2 p.m.

Agenda: To review and evaluate grant applications.

Place: National Institutes of Health, Neuroscience Center, 6001 Executive Boulevard, Rockville, MD 20852, (Telephone Conference Call).

Contact Person: David I. Sommers, PhD, Scientific Review Administrator, Division of Extramural Activities, National Institute of Mental Health, NIH, Neuroscience Center, 6001 Executive Blvd., Room 6144, MSC 9606, Bethesda, MD 20892-9606, 301-443-7861, dsommers@mail.nih.gov.

(Catalogue of Federal Domestic Assistance Program Nos. 93.242, Mental Health Research Grants; 93.281, Scientist Development Award, Scientists Development Award for Clinicians, and Research Scientist Award; 93.282, Mental Health National Research Service Awards for Research Training, National Institutes of Health, HHS)

Dated: January 10, 2005.
Anna P. Snouffer,
Acting Director, Office of Federal Advisory Committee Policy.

[FR Doc. 05-880 Filed 1-14-05; 8:45 am]

BILLING CODE 4140-01-M